OFFICE OF THE UNITED STATES TRADE REPRESENTATIVE

15 CFR Part 2008

Removal of the Office of the United States Trade Representative Rules Concerning Classification and Safeguarding of National Security Information

AGENCY: Office of the United States Trade Representative.

ACTION: Final rule.

SUMMARY: This rule removes part 2008 of the Office of the United States Trade Representative's (USTR) regulations, which established policy and procedure for the classification and safeguarding of national security information by USTR staff. USTR has replaced the rule, which was promulgated in 1979 and is based on a superseded Executive Order, with updated plain language guidance that is available on the USTR website.

DATES: The final rule is effective April 9, 2018.

FOR FURTHER INFORMATION CONTACT: Janice Kaye, Monique Ricker or Melissa Keppel, Office of General Counsel, United States Trade Representative, Anacostia Naval Annex, Building 410/Door 123, 250 Murray Lane SW, Washington, DC 20509, jkaye@ustr.eop.gov; mricker@ustr.eop.gov; mkeppel@ustr.eop.gov; 202-395-3150.

SUPPLEMENTARY INFORMATION: On September 26, 1979, USTR's predecessor, the Office of the Special Representative for Trade Negotiations, published a rule to establish policies and procedures for the security classification, downgrading, declassification, and safeguarding on national security information. See 44 FR 55328-331. The rule, codified at 15 CFR part 2008, is based on a superseded Executive Order, and has never been updated. USTR recently issued Classification Guidance based on current legal and policy requirements. The Guidance sets out the policies and procedures for classifying, downgrading, and declassifying national security information and provides for the protection of USTR information and its availability to authorized users. USTR will update the guidance as necessary to reflect changes to the governing Executive Order, currently Executive Order 13526 of December 29, 2009, Classified National Security Information, and implementing rules issued by the Information Security Oversight Office (ISOO) (32 CFR part 2001). The Guidance is available on the USTR website: https://ustr.gov/about-us/reading-room/declassification-program.

Administrative Procedure and Regulatory Flexibility Acts

USTR finds good cause to waive prior notice and an opportunity for public comment, and to make the rule effective immediately, because it removes an obsolete regulation that USTR has replaced with current guidance. Public input is not necessary and delaying codification is not in the public interest. See 5 U.S.C. 553(b)(B) and 553(d)(3). The Regulatory Flexibility Act (5 U.S.C. 601 et seq.) does not apply to this final rule since prior notice and an opportunity for public comment are not required.

Paperwork Reduction Act

The final rule does not contain any information collection requirement that requires the approval of the Office of Management and Budget under the Paperwork Reduction Act (44 U.S.C. 3501 et seq.).

List of Subjects in 15 CFR Part 2008

Administrative practice and procedure, Classified information.

PART 2008—[REMOVED AND RESERVED]

For the reasons stated in the preamble, and under the authority of 19 U.S.C. 2171(e)(3), the Office of the United States Trade Representative removes and reserves part 2008 of chapter XX of title 15 of the Code of Federal Regulations.

Janice Kaye,
Chief Counsel for Administrative Law, Office of the U.S. Trade Representative.

[FR Doc. 2018-07220 Filed 4-6-18; 8:45 am]

BILLING CODE 3290-F8-P